DEPARTMENT OF HOMELAND SECURITY

Federal Emergency Management Agency

44 CFR Part 65

[Docket No. FEMA-B-7772]

Changes in Flood Elevation Determinations

AGENCY: Federal Emergency Management Agency, DHS.

ACTION: Interim rule.

SUMMARY: This interim rule lists communities where modification of the Base (1% annual-chance) Flood Elevations (BFEs) is appropriate because of new scientific or technical data. New flood insurance premium rates will be calculated from the modified BFEs for new buildings and their contents.

DATES: These modified BFEs are currently in effect on the dates listed in the table below and revise the Flood Insurance Rate Maps (FIRMs) in effect prior to this determination for the listed communities.

From the date of the second publication of these changes in a newspaper of local circulation, any person has ninety (90) days in which to request through the community that the Mitigation Assistant Administrator of FEMA reconsider the changes. The modified BFEs may be changed during the 90-day period.

ADDRESSES: The modified BFEs for each community are available for inspection at the office of the Chief Executive Officer of each community. The respective addresses are listed in the table below.

FOR FURTHER INFORMATION CONTACT: William R. Blanton, Jr., Engineering Management Branch, Mitigation Directorate, Federal Emergency Management Agency, 500 C Street, SW., Washington, DC 20472, (202) 646-3151.

SUPPLEMENTARY INFORMATION: The modified BFEs are not listed for each community in this interim rule. However, the address of the Chief Executive Officer of the community where the modified BFE determinations are available for inspection is provided.

Any request for reconsideration must be based on knowledge of changed conditions or new scientific or technical data.

The modifications are made pursuant to section 201 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required to either adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own, or pursuant to policies established by the other Federal, State, or regional entities. The changes in BFEs are in accordance with 44 CFR 65.4.

National Environmental Policy Act. This interim rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This interim rule is not a significant regulatory action under the criteria of section 3(f) of Executive Order 12866 of September 30, 1993, Regulatory Planning and Review, 58 FR 51735.

Executive Order 13132, Federalism. This interim rule involves no policies that have federalism implications under Executive Order 13132, Federalism.

Executive Order 12988, Civil Justice Reform. This interim rule meets the applicable standards of Executive Order 12988.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location and case No. | Date and name of newspaper where notice was published | Chief executive officer of community | Effective date of modification | Community No.
Arizona:
Maricopa | Unincorporated areas of Maricopa County (07-09-1354P) | January 10, 2008; January 17, 2008; Arizona Business Gazette | The Honorable Fulton Brock, Chairman, Maricopa County Board of Supervisors, 301 West Jefferson Street, 10th Floor, Phoenix, AZ 85003 | January 4, 2008 | 040037
Maricopa | City of Phoenix (07-09-1713P) | January 3, 2008; January 10, 2008; Arizona Business Gazette | The Honorable Phil Gordon, Mayor, City of Phoenix, 200 West Washington Street, 11th Floor, Phoenix, AZ 85003 | January 14, 2008 | 040051
Mohave | City of Kingman (07-09-0639P) | January 24, 2008; January 31, 2008; The Kingman Daily Miner | The Honorable Lester Byram, Mayor, City of Kingman, 310 North Fourth Street, Kingman, AZ 86401 | May 1, 2008 | 040060
Yavapai | Town of Prescott (07-09-1453P) | January 3, 2008; January 10, 2008; Prescott Daily Courier | The Honorable Harvey C. Skoog, Mayor, Town of Prescott Valley, 7501 East Civic Circle, Prescott Valley, AZ 86314 | December 14, 2007 | 040121
Yavapai | Unincorporated areas of Yavapai County (07-09-1440P) | January 10, 2008; January 17, 2008; Prescott Daily Courier | The Honorable Chip Davis, Chairman, Yavapai County Board of Supervisors, 1015 Fair Street, Prescott, AZ 86305 | April 17, 2008 | 040093
California:
San Diego | City of Chula Vista (07-09-1325P) | January 10, 2008; January 17, 2008; San Diego Daily Transcript | The Honorable Cheryl Cox, Mayor, City of Chula Vista, 276 Fourth Avenue, Chula Vista, CA 91910 | December 27, 2007 | 065021
Shasta | City of Anderson (07-09-1860P) | January 9, 2008; January 16, 2008; Anderson Valley Post | The Honorable Keith Webster, Mayor, City of Anderson, 1887 Howard Street, Anderson, CA 96007 | April 16, 2008 | 060359
Yuba | Unincorporated areas of Yuba County (07-09-1893P) | January 10, 2008; January 17, 2008; The Appeal-Democrat | The Honorable Hal Stocker, Chairman, Yuba County Board of Supervisors, 915 Eighth Street, Suite 109, Marysville, CA 95901 | December 26, 2007 | 060427
Connecticut: Fairfield | Town of Greenwich (07-01-0700P) | January 18, 2008; January 25, 2008; Greenwich Time | The Honorable Peter Tesei, First Selectman, Town of Greenwich, 101 Field Point Road, Greenwich, CT 06830 | January 9, 2008 | 090008
Florida:
Lake | Unincorporated areas of Lake County (07-04-6495P) | January 10, 2008; January 17, 2008; The Daily Commercial | The Honorable Welton G. Cadwell, Chairman, Lake County Board of Commissioners, P.O. Box 7800, Tavares, FL 32778-7800 | April 17, 2008 | 120421
Monroe | Village of Islamorada (07-04-6596P) | December 29, 2007; January 3, 2008; Key West Citizen | The Honorable Chris Sante, Mayor, Village of Islamorada, P.O. Box 568, Islamorada, FL 33036 | December 10, 2007 | 120424
Monroe | Unincorporated areas of Monroe County (07-04-3519P) | January 24, 2008; January 31, 2008; Key West Citizen | The Honorable Charles McCoy, Mayor, Monroe County, 1100 Simonton Street, Key West, FL 33040 | May 1, 2008 | 125129
Georgia:
Cherokee | City of Canton (07-04-2655P) | January 11, 2008; January 18, 2008; Cherokee Tribune | The Honorable Cecil G. Pruett, Mayor, City of Canton, 151 Elizabeth Street, Canton, GA 30114 | December 26, 2007 | 130039
Cherokee | Unincorporated areas of Cherokee County (07-04-2655P) | January 11, 2008; January 18, 2008; Cherokee Tribune | The Honorable Buzz Ahrens, Chairman, Cherokee County Board of Commissioners, 90 North Street, Suite 310, Canton, GA 30114 | December 26, 2007 | 130424
Columbia | Unincorporated areas of Columbia County (07-04-2731P) | December 26, 2007; January 2, 2008; Columbia County News-Times | The Honorable Ron C. Cross, Chairman, Columbia County Board of Commissioners, P.O. Box 498, Evans, GA 30809 | April 2, 2008 | 130059
Columbia | Unincorporated areas of Columbia County (07-04-5157P) | December 26, 2007; January 2, 2008; Columbia County News-Times | The Honorable Ron C. Cross, Chairman, Columbia County Board of Commissioners, P.O. Box 498, Evans, GA 30809 | December 12, 2007 | 130059
Columbia | City of Grovetown (07-04-5157P) | December 26, 2007; January 2, 2008; Columbia County News-Times | The Honorable Dennis O. Trudeau, Mayor, City of Grovetown, P.O. Box 120, Grovetown, GA 30813 | December 12, 2007 | 130265
Illinois:
Clinton | Unincorporated areas of Clinton County (07-05-6034P) | January 24, 2008; January 31, 2008; The Breese Journal | The Honorable Ray Kloeckner, Chairman, Clinton County Board of Directors, 4626 Court Road, Germantown, IL 62245 | January 10, 2008 | 170044
Kane | Unincorporated areas of Kane County (07-05-0178P) | January 24, 2008; January 31, 2008; Kane County Chronicle | The Honorable Karen McConnaughay, Chairman, Kane County Board, 719 South Batavia Avenue, Geneva, IL 60134 | May 1, 2008 | 170896
Kane | Village of Sugar Grove (07-05-0178P) | January 24, 2008; January 31, 2008; Kane County Chronicle | The Honorable P. Sean Michels, President, Village of Sugar Grove, P.O. Box 49, Sugar Grove, IL 60554 | May 1, 2008 | 170333
Lake | Unincorporated areas of Lake County (06-05-BR72P) | January 10, 2008; January 17, 2008; Lake County News-Sun | The Honorable Suzi Schmidt, Chairman, Lake County Board of Commissioners, 18 North County Street, Room 1001, Waukegan, IL 60085 | April 17, 2008 | 170357
Lake | City of Waukegan (06-05-BR72P) | January 10, 2008; January 17, 2008; Lake County News-Sun | The Honorable Richard H. Hyde, Mayor, City of Waukegan, 100 North Martin Luther King, Jr. Avenue, Waukegan, IL 60085 | April 17, 2008 | 170397
McHenry | Village of Fox River Grove (07-05-5055P) | January 10, 2008; January 17, 2008; Northwest Herald | The Honorable Katherine A. Laube, President, Village of Fox River Grove, 305 Illinois Street, Fox River Grove, IL 60021 | April 17, 2008 | 170477
Morgan | City of Jacksonville (07-05-0512P) | January 10, 2008; January 17, 2008; Jacksonville Journal-Courier | The Honorable Ron Tendick, Mayor, City of Jacksonville, 200 West Douglas Avenue, Jacksonville, IL 62650 | December 12, 2007 | 170516
Will | Village of Plainfield (07-05-5056P) | January 3, 2008; January 10, 2008; Herald News | The Honorable James A. Waldorf, President, Village of Plainfield, 24401 West Lockport Street, Plainfield, IL 60544 | December 11, 2007 | 170771
Indiana: Miami | City of Peru (08-05-0338P) | December 13, 2007; December 20, 2007; Peru Tribune | The Honorable James R. Walker, Mayor, City of Peru, 35 South Broadway, Peru, IN 46970 | December 31, 2007 | 180168
Iowa: Clive and Polk | City of Clive (07-07-1800P) | January 18, 2008; January 25, 2008; The Des Moines Register | The Honorable Les Aasheim, Mayor, City of Clive, 1900 Northwest 114th Street, Clive, IA 50325 | April 25, 2008 | 190488
Massachusetts: Worcester | Town of Southborough (07-01-0993P) | January 18, 2008; January 25, 2008; Northborough-Southborough Villager | The Honorable Bonnie J. Phaneuf, Chair, Board of Selectmen, Southborough Town House, 17 Common Street, Southborough, MA 01772 | January 31, 2008 | 250333
North Dakota:
Burleigh | City of Bismarck (07-08-0142A) | January 10, 2008; January 17, 2008; Bismarck Tribune | The Honorable John Warford, Mayor, City of Bismarck, P.O. Box 5503, Bismarck, ND 58506-5503 | April 17, 2008 | 380149
Burleigh | Unincorporated areas of Burleigh County (07-08-0142A) | January 10, 2008; January 17, 2008; Bismarck Tribune | The Honorable Marlan Haakenson, Chairman, Burleigh County Commission, 115 South Griffin Street, Bismarck, ND 58504-5309 | April 17, 2008 | 380017
Oregon: Clackamas, Multnomah, Washington | City of Portland (07-10-0004P) | January 9, 2008; January 16, 2008; The Gresham Outlook | The Honorable Tom Potter, Mayor, City of Portland, 1221 Southwest Fourth Avenue, Suite 340, Portland, OR 97204 | January 28, 2008 | 410183
Pennsylvania:
Lehigh | Township of Salisbury (07-03-0947P) | January 3, 2008; January 10, 2008; Express-Times | The Honorable Larry Unger, President, Township of Salisbury, 2900 South Pike Avenue, Allentown, PA 18103 | April 10, 2008 | 420591
Northampton | Township of Lower Mount Bethel (07-03-1293P) | January 3, 2008; January 10, 2008; Express-Times | The Honorable Charles Palmeri, Chairman, Lower Mount Bethel Board of Supervisors, P.O. Box 257, Martins Creek, PA 18063 | April 10, 2008 | 420724
South Carolina:
Charleston | City of Folly Beach (08-04-0583P) | January 3, 2008; January 10, 2008; The Post and Courier | The Honorable Carl B. Beckmann, Jr., Mayor, City of Folly Beach, P.O. Box 48, Folly Beach, SC 29439 | December 18, 2007 | 455415
Greenville | Greenville County (07-04-5799P) | January 10, 2008; January 17, 2008; The Greenville News | The Honorable Herman G. Kirven, Jr., Chairman, Greenville County Council, 301 University Ridge, Suite 2400, Greenville, SC 29601 | April 17, 2008 | 450089
Lexington | Lexington County (07-04-5473P) | December 6, 2007; December 13, 2007; Lexington County Chronicle | The Honorable William C. “Billy” Derrick, Chairman, Lexington County Council, 212 South Lake Drive, Lexington, SC 29072 | March 13, 2008 | 450129
Sumter | Unincorporated areas of Sumter County (07-04-6293P) | January 10, 2008; January 17, 2008; Sumter Item | The Honorable Vivian Fleming-McGhaney, Chair, Sumter County Council, 13 East Canal Street, Sumter, SC 29150 | April 17, 2008 | 450182
Tennessee: Hamilton | City of Chattanooga (07-04-4405P) | January 10, 2008; January 17, 2008; Chattanooga Times Free Press | The Honorable Ron Littlefield, Mayor, City of Chattanooga, 101 East 11th Street, Suite 100, Chattanooga, TN 37402 | April 17, 2008 | 470072
Texas:
Collin | City of Allen (07-06-2412P) | January 10, 2008; January 17, 2008; The Allen American | The Honorable Stephen Terrell, Mayor, City of Allen, 305 Century Parkway, Allen, TX 75013 | April 17, 2008 | 480131
Collin | City of Celina (08-06-0373P) | January 3, 2008; January 10, 2008; The Celina Record | The Honorable Corbett Howard, Mayor, City of Celina, 302 West Walnut Street, Celina, TX 75009 | December 26, 2007 | 480133
Dallas | City of Dallas (06-06-BF24P) | January 31, 2008; February 7, 2008; The Mesquite News | The Honorable Tom Leppert, Mayor, City of Dallas, 1500 Marilla Street, Room 5EN, Dallas, TX 75201 | May 8, 2008 | 480171
Dallas | Town of Sunnyvale (06-06-BF24P) | January 31, 2008; February 7, 2008; The Mesquite News | The Honorable Jim Phaup, Mayor, Town of Sunnyvale, 127 North Collins Road, Sunnyvale, TX 75182 | May 8, 2008 | 480188
Fort Bend | City of Katy (07-06-2143P) | January 3, 2008; January 10, 2008; Fort Bend Herald | The Honorable Don Elder Jr., Mayor, City of Katy, P.O. Box 617, Katy, TX 77492 | December 14, 2007 | 480301
Kaufman | City of Terrell (07-06-1906P) | January 10, 2008; January 17, 2008; The Terrell Tribune | The Honorable Hal Richards, Mayor, City of Terrell, P.O. Box 310, Terrell, TX 75160 | December 31, 2007 | 480416
Kaufman | Unincorporated areas of Kaufman County (06-06-BF24P) | January 31, 2008; February 7, 2008; The Mesquite News | The Honorable Wayne Gent, Kaufman County Judge, 100 West Mulberry Street, Kaufman, TX 75142 | May 8, 2008 | 480411
Montgomery | Unincorporated areas of Montgomery County (06-06-B643P) | January 9, 2008; January 16, 2008; The Montgomery County News | The Honorable Alan B. Sadler, Montgomery County Judge, 301 North Thompson Street, Suite 210, Conroe, TX 77301 | April 9, 2008 | 480483
Travis | Unincorporated areas of Travis County (07-06-02514P) | January 10, 2008; January 17, 2008; Austin American-Statesman | The Honorable Samuel T. Biscoe, Travis County Judge, P.O. Box 1748, Austin, TX 78767 | April 17, 2008 | 481026
Williamson | Town of Hutto (07-06-0731P) | January 10, 2008; January 17, 2008; Round Rock Leader | The Honorable Kenneth L. Love, Mayor, Town of Hutto, 401 West Front Street, Hutto, TX 78634 | April 17, 2008 | 481047
Washington: Whatcom | Unincorporated areas of Whatcom County (07-10-0356P) | January 3, 2008; January 10, 2008; The Bellingham Herald | The Honorable Pete Kremen, Whatcom County Executive, County Courthouse, 311 Grand Avenue, Suite 108, Bellingham, WA 98225 | December 17, 2007 | 530198

(Catalog of Federal Domestic Assistance No. 97.022, “Flood Insurance.”)

Dated: March 31, 2008.
David I. Maurstad,
Federal Insurance Administrator of the National Flood Insurance Program, Department of Homeland Security, Federal Emergency Management Agency.

[FR Doc. E8-8325 Filed 4-16-08; 8:45 am]

BILLING CODE 9110-12-P